DEPARTMENT OF TRANSPORTATION

Federal Aviation Administration

14 CFR Part 39

[Docket No. FAA-2015-3636; Directorate Identifier 2015-NM-043-AD; Amendment 39-18442; AD 2016-06-11]

RIN 2120-AA64

Airworthiness Directives; Airbus Defense and Space S.A. (Formerly Known as Construcciones Aeronauticas, S.A.) Airplanes

AGENCY: Federal Aviation Administration (FAA), Department of Transportation (DOT).

ACTION: Final rule.

SUMMARY: We are adopting a new airworthiness directive (AD) for all Airbus Defense and Space S.A. Model CN-235, CN-235-100, CN-235-200, and CN-235-300 airplanes. This AD was prompted by a report of cracks on the lugs of the inboard and outboard control rod fittings of the right hand (RH) and left hand (LH) side ailerons. This AD requires a one-time non-destructive test (NDT) inspection of the inboard and outboard control rod fittings of the RH and LH side ailerons for cracks and corrosion, and repair if necessary. We are issuing this AD to detect and correct cracks and corrosion on the lugs of the inboard and outboard control rod fittings of the RH and LH side ailerons, which could lead to reduced controllability of the airplane.

DATE: This AD becomes effective May 3, 2016.

The Director of the Federal Register approved the incorporation by reference of a certain publication listed in this AD as of May 3, 2016.

ADDRESSES: For service information identified in this final rule, contact EADS-CASA, Military Transport Aircraft Division (MTAD), Integrated Customer Services (ICS), Technical Services, Avenida de Aragón 404, 28022 Madrid, Spain; telephone: +34 91 585 55 84; fax: +34 91 585 55 05; email: MTA.TechnicalService@casa.eads.net; Internet: http://www.eads.net. You may view this referenced service information at the FAA, Transport Airplane Directorate, 1601 Lind Avenue SW., Renton, WA. For information on the availability of this material at the FAA, call 425-227-1221. It is also available on the Internet at http://www.regulations.gov by searching for and locating Docket No. FAA-2015-3636.

Examining the AD Docket

You may examine the AD docket on the Internet at http://www.regulations.gov by searching for and locating Docket No. FAA-2015-3636; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Shahram Daneshmandi, Aerospace Engineer, International Branch, ANM-116, Transport Airplane Directorate, FAA, 1601 Lind Avenue SW., Renton, WA 98057-3356; telephone: 425-227-1112; fax: 425-227-1149.

SUPPLEMENTARY INFORMATION:

Discussion

We issued a notice of proposed rulemaking (NPRM) to amend 14 CFR part 39 by adding an AD that would apply to all Airbus Defense and Space S.A. Model CN-235, CN-235-100, CN-235-200, and CN-235-300 airplanes. The NPRM published in the Federal Register on September 28, 2015 (80 FR 58224). The NPRM was prompted by a report of cracks on the lugs of the inboard and outboard control rod fittings of the RH and LH side ailerons. The NPRM proposed to require a one-time NDT inspection of the inboard and outboard control rod fittings of the RH and LH side ailerons for cracks and corrosion, and repair if necessary. We are issuing this AD to detect and correct cracks and corrosion on the lugs of the inboard and outboard control rod fittings of the RH and LH side ailerons, which could lead to reduced controllability of the airplane.

The European Aviation Safety Agency (EASA), which is the Technical Agent for the Member States of the European Union, has issued EASA AD 2015-0040, dated March 6, 2015 (referred to after this as the Mandatory Continuing Airworthiness Information, or “the MCAI”), to correct an unsafe condition for all Airbus Defense and Space S.A. Model CN-235, CN-235-100, CN-235-200, and CN-235-300 airplanes. The MCAI states:

A CN-235 operator recently reported finding, during scheduled maintenance tasks, cracks on the lugs of the control rod fittings (inboard and outboard) of the ailerons [Right Hand (RH) and Left Hand (LH) side] of two aeroplanes. At the time of the finding, the two affected aeroplanes had accumulated between 16 000 and 17 000 flight hours (FH), around 6 000 flight cycles and had been in service for 20 years. Following the investigation results, it was determined that these cracks were due to stress corrosion.

This condition, if not detected and corrected, could lead to aileron fittings failure, possibly resulting in reduced control of the aeroplane.

To address this unsafe condition and verify the integrity of the fittings, EADS-CASA (Airbus Military) issued Alert Operators Transmission (AOT) CN235-57-0001 to provide instructions for a one-time Non-Destructive (NDT) inspection of the affected fittings for cracks and corrosion.

For the reasons described above, this [EASA] AD requires a one-time NDT inspection of the affected aileron fittings and, if discrepancies are detected, accomplishment of applicable corrective action(s) [repair of any cracked or corroded parts].

You may examine the MCAI in the AD docket on the Internet at http://www.regulations.gov by searching for and locating Docket No. FAA-2015-3636.

Comments

We gave the public the opportunity to participate in developing this AD. We received no comments on the NPRM (80 FR 58224, September 28, 2015) or on the determination of the cost to the public.

Conclusion

We reviewed the relevant data and determined that air safety and the public interest require adopting this AD as proposed except for minor editorial changes. We have determined that these minor changes:

• Are consistent with the intent that was proposed in the NPRM (80 FR 58224, September 28, 2015) for correcting the unsafe condition; and

• Do not add any additional burden upon the public than was already proposed in the NPRM (80 FR 58224, September 28, 2015).

Related Service Information Under 1 CFR Part 51

Airbus Defense and Space S.A. has issued Airbus Military Alert Operators Transmission (AOT) AOT-CN235-57-0001, Revision 1, dated March 14, 2014. The service information describes procedures for a one-time NDT inspection of the inboard and outboard control rod fittings of the RH and LH side ailerons for cracks and corrosion, and contacting Airbus Military for repair instructions. This service information is reasonably available because the interested parties have access to it through their normal course of business or by the means identified in the ADDRESSES section.

Costs of Compliance

We estimate that this AD affects 24 airplanes of U.S. registry.

We also estimate that it will take about 30 work-hours per product to comply with the basic requirements of this AD. The average labor rate is $85 per work-hour. Based on these figures, we estimate the cost of this AD on U.S. operators to be $61,200, or $2,550 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-06-11 Airbus Defense and Space S.A. (formerly known as Construcciones Aeronauticas, S.A.): Amendment 39-18442. Docket No. FAA-2015-3636; Directorate Identifier 2015-NM-043-AD.

(a) Effective Date

This AD becomes effective May 3, 2016.

(b) Affected ADs

None.

(c) Applicability

This AD applies to Airbus Defense and Space S.A. (formerly known as Construcciones Aeronauticas, S.A.) Model CN-235, CN-235-100, CN-235-200, and CN-235-300 airplanes, certificated in any category, all manufacturer serial numbers.

(d) Subject

Air Transport Association (ATA) of America Code 57, Wings.

(e) Reason

This AD was prompted by a report of cracks on the lugs of the inboard and outboard control rod fittings of the right hand (RH) and left hand (LH) side ailerons. We are issuing this AD to detect and correct cracks and corrosion on the lugs of the inboard and outboard control rod fittings of the RH and LH side ailerons, which could lead to reduced controllability of the airplane.

(f) Compliance

Comply with this AD within the compliance times specified, unless already done.

(g) One-Time Non-Destructive Test (NDT) Inspection

(1) At the later of the compliance times specified in paragraph (g)(1)(i) or (g)(1)(ii) of this AD: Do a one-time NDT inspection of the inboard and outboard control rod fittings of the RH and LH side ailerons for cracks, and a one-time general visual inspection for corrosion, in accordance with Airbus Military Alert Operators Transmission (AOT) AOT-CN235-57-0001, Revision 1, dated March 14, 2014.

(i) Before exceeding 8,000 flight hours or 10 years since first flight of the airplane, whichever occurs first.

(ii) Within 3 months after the effective date of this AD.

(2) If any crack or corrosion is found during any inspection required by paragraph (g)(1) of this AD, before further flight, contact the Manager, International Branch, ANM-116, Transport Airplane Directorate, FAA; or the European Aviation Safety Agency (EASA); or Airbus Defense and Space S.A.'s EASA Design Organization Approval (DOA) for approved repair instructions, and before further flight, accomplish the repair accordingly.

(h) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, WA 98057-3356; telephone: 425-227-1112; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the EASA; or Airbus Defense and Space S.A.'s EASA DOA. If approved by the DOA, the approval must include the DOA-authorized signature.

(i) Related Information

Refer to Mandatory Continuing Airworthiness Information (MCAI) EASA AD 2015-0040, dated March 6, 2015, for related information. This MCAI may be found in the AD docket on the Internet at http://www.regulations.gov by searching for and locating Docket No. FAA-2015-3636.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Military Alert Operators Transmission (AOT) AOT-CN235-57-0001, Revision 1, dated March 14, 2014.

(ii) Reserved.

(3) For service information identified in this AD, contact EADS-CASA, Military Transport Aircraft Division (MTAD), Integrated Customer Services (ICS), Technical Services, Avenida de Aragón 404, 28022 Madrid, Spain; telephone: +34 91 585 55 84; fax: +34 91 585 55 05; email: MTA.TechnicalService@casa.eads.net; Internet: http://www.eads.net.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 16, 2016.
Michael Kaszycki,
Acting Manager, Transport Airplane Directorate, Aircraft Certification Service.

[FR Doc. 2016-06622 Filed 3-28-16; 8:45 am]

BILLING CODE 4910-13-P